CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps VISTA Project Progress Report for review and approval in accordance with the Paperwork Reduction Act of 1995, Public Law 104-13, (44 U.S.C. Chapter 35). Copies of this ICR, with applicable supporting documentation, may be obtained by calling the Corporation for National and Community Service, Mr. Robert Cox, at 202-606-6851 or email to vista@americorps.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on February 20, 2014. This comment period ended April 28, 2014. All comments and the disposition of each are addressed below.

One set of comments was in regard to the Member Development section of the Project Progress Report. One comment expressed appreciation for the change in how applicants report information in this section. Specifically, respondents are now asked to report the number of hours of member development opportunities provided to AmeriCorps VISTA members, where previously respondents were asked to report the number of AmeriCorps VISTA members that received member development opportunities. The commenter stated that counting hours will be less burdensome for respondents.

A second comment regarding the Member Development section suggested providing more detailed definitions of the individual member development areas. CNCS lists these member development areas (which include Community Volunteer Generation/Recruitment, Effective Volunteer Management, and Grantwriting) without detailed definition because they are broad functions that are reflected in the assignment descriptions of VISTA members. CNCS believes their meaning is understandable to individuals involved in sponsoring a VISTA project.

A third comment regarding the Member Development section was a suggestion to provide a higher character limit for the “Other” line than has been allowed in the past. CNCS notes that the character limit for respondents to provide professional development information for the “Other” area is higher than it has been in the past in the CNCS eGrants system and is of sufficient size to adequately spotlight professional development.

A fourth set of comments focused on the Demographics section of the Project Progress Report. One comment noted a lack of clarity on whether respondents are being asked to provide information about a duplicated or unduplicated count of community volunteers who are recruited and managed. Another comment expressed a preference for one combined count that reflects community volunteers who are recruited and managed. CNCS notes that the measures included in the Demographics section are a subset of the CNCS National Performance Measures, which include specific definitions and data collection standards for each measure. Those standards require that the total number of volunteers recruited and managed is an unduplicated count and that respondents control for double counting or select the measure that best fits their program model.

To clarify this requirement in the Project Progress Report, CNCS amended the Demographics section by creating one response line for community volunteers recruited and a separate response line for community volunteers managed. CNCS also added language that refers respondents to the definitions and data collection standards for each measure and thus the requirement to report an unduplicated count.

Additionally, CNCS also created one line for respondents to report the number of hours of service contributed by community volunteers and a separate line for respondents to report the number of hours of service contributed by community volunteers managed. CNCS also added language that refers respondents to where they can find the definitions and data collection standards for those measures, as well as every other measure in this section.

The fifth set of comments focused on the Performance Measure section of the Project Progress Report. One comment asked whether the instructions were requiring respondents to report on data collected for performance measures for the project in the aggregate or for each VISTA member individually. The CNCS requirement is neither. The CNCS requirement is for respondents to report progress with respect to each individual performance measure set that the respondent identified in their approved application. An individual performance measure set is based on the unique combination of a site and a capacity goal and may represent the activities of multiple VISTA members.

To further clarify the requirement, CNCS amended the Performance Measurement section to require respondents to enter data for each individual performance measure set that was created in the application. The CNCS eGrants system will also automatically display each performance measure set for which respondents must enter data, further clarifying the requirement.

Other comments regarding the Performance Measure section expressed the preference that CNCS require respondents to report data for the project in the aggregate rather than at the individual performance measure set level and offered an opinion that data reported in disaggregated fashion would be burdensome for respondents to provide and would not result in meaningful information for CNCS.

CNCS acknowledges that the level of burden may be higher for some respondents to report on individual performance measure sets and has increased the burden estimate. CNCS notes that the increased burden stems from additional data entry into the CNCS eGrants reporting system and is not a burden caused by additional data collection or other reporting steps peculiar to reporting to CNCS on individual performance measure sets.

Further, given the unique and complex nature of capacity building activities, CNCS believes that the information reported at an individual performance measure set level will provide meaningful and valuable information about how respondents are using VISTA resources in a way that an aggregate cannot.

The intent of VISTA resources is to build capacity of individual organizations and programs to address poverty. Even sites that have similar capacity goals and performance measures—as expressed in individual performance measure sets—may achieve results at different rates, need different levels of VISTA resources to make progress, or require different types of service activities from VISTA members. Reporting data on individual performance sets is necessary for respondents, CNCS, and other stakeholders to monitor this variability in resources, aspirations and accomplishments, both to assist in the accomplishment of the individual project as well as to support the continuous improvement of the VISTA program as a whole.

Description: CNCS seeks to revise the Project Progress Report, which contains the instructions used by AmeriCorps VISTA sponsors to report on the use of AmeriCorps VISTA resources and on progress against their approved application.

Type of Review: Revision.

Agency: Corporation for National and Community Service.

Title: Project Progress Report.

OMB Number: 3045-0038.

Agency Number: None.

Affected Public: AmeriCorps VISTA sponsoring organizations.

Total Respondents: 900.

Frequency: Four times a year for each sponsor in the first year; twice per year thereafter unless performance or nature of the project requires more frequent reporting and review.

Average Time per Response: 20 hours.

Estimated Total Burden Hours: 48,000 hours.

Total Burden Cost (capital/startup): None.

Total Burden Cost (operating/maintenance): None.

Dated: August 12, 2014.
D. Paul Monteiro,
Director, AmeriCorps VISTA.

[FR Doc. 2014-19414 Filed 8-14-14; 8:45 am]

BILLING CODE 6050-28-P